DEPARTMENT OF ENERGY

Federal Energy Regulatory Commission

Combined Notice of Filings

April 13, 2010.

Take notice that the Commission has received the following Natural Gas Pipeline Rate and Refund Report filings:

Docket Numbers: RP10-586-000.

Applicants: Natural Gas Pipeline Company of America, LLC.

Description: Natural Gas Pipeline Company of America, LLC submits amendment to the Firm Transportation and Storage Negotiated Rate Agreement with CenterPoint Energy Minnesota Gas.

Filed Date: 04/08/2010.

Accession Number: 20100408-0205.

Comment Date: 5 p.m. Eastern Time on Tuesday, April 20, 2010.

Docket Numbers: RP10-587-000.

Applicants: Midwestern Gas Transmission Company.

Description: Midwestern Gas Transmission Company submits Eighth Revised Sheet 1 et al. to its FERC Gas Tariff, Third Revised Volume 1, to be effective 05/10/10.

Filed Date: 04/08/2010.

Accession Number: 20100408-0204

Comment Date: 5 p.m. Eastern Time on Tuesday, April 20, 2010.

Docket Numbers: RP10-588-000.

Applicants: Columbia Gas Transmission, LLC.

Description: Columbia Gas Transmission, LLC submits Second Revised Sheet 2 et al. to its FERC Gas Tariff, Third Revised Volume 1, to be effective 05/09/10.

Filed Date: 04/09/2010.

Accession Number: 20100409-0203.

Comment Date: 5 p.m. Eastern Time on Wednesday, April 21, 2010.

Docket Numbers: RP10-589-000.

Applicants: Central Kentucky Transmission Company.

Description: Central Kentucky Transmission Company submits First Revised Sheet 2 et al. to its FERC Gas Tariff, Third Revised Volume 1, to be effective 05/09/10.

Filed Date: 04/09/2010.

Accession Number: 20100409-0204.

Comment Date: 5 p.m. Eastern Time on Wednesday, April 21, 2010.

Docket Numbers: RP10-590-000.

Applicants: Hardy Storage Company, LLC.

Description: Hardy Storage Company, LLC submits First Revised Sheet 2 et al. to FERC Gas Tariff, Original Volume 1 to be effective 05/09/10.

Filed Date: 04/09/2010.

Accession Number: 20100409-0202.

Comment Date: 5 p.m. Eastern Time on Wednesday, April 21, 2010.

Docket Numbers: RP10-591-000.

Applicants: Crossroads Pipeline Company.

Description: Crossroad Pipeline Company submits Fourth Revised Sheet 2 et al. to its FERC Gas Tariff, First Revised Volume 1, to be effective 05/09/10.

Filed Date: 04/09/2010.

Accession Number: 20100409-0205.

Comment Date: 5 p.m. Eastern Time on Wednesday, April 21, 2010.

Docket Numbers: RP10-592-000.

Applicants: Columbia Gulf Transmission Company.

Description: Columbia Gulf Transmission Company submits Third Revised Sheet 2 et al. to its FERC Gas Tariff, Second Revised Volume 1, to be effective 05/09/10.

Filed Date: 04/09/2010.

Accession Number: 20100409-0206.

Comment Date: 5 p.m. Eastern Time on Wednesday, April 21, 2010.

Docket Numbers: RP10-593-000.

Applicants: Transcontinental Gas Pipe Line Company, LLC.

Description: Transcontinental Gas Pipe Line Company, LLC submits the transportation service agreements under Rate Schedule FT.

Filed Date: 04/09/2010.

Accession Number: 20100409-0218.

Comment Date: 5 p.m. Eastern Time on Wednesday, April 21, 2010.

Docket Numbers: RP10-594-000.

Applicants: Garden Banks Gas Pipeline, LLC.

Description: Garden Banks Gas Pipeline, LLC submits Fifth Revised Sheet 0 et al. to its FERC Gas Tariff, Original Volume 1, to be effective 05/10/10.

Filed Date: 04/09/2010.

Accession Number: 20100409-0219.

Comment Date: 5 p.m. Eastern Time on Wednesday, April 21, 2010.

Docket Numbers: RP10-595-000.

Applicants: Columbia Gas Transmission, LLC.

Description: Columbia Gas Transmission, LLC submits tariff filing per 154.203: Baseline Filing to be effective 04/09/10.

Filed Date: 04/09/2010.

Accession Number: 20100409-5087.

Comment Date: 5 p.m. Eastern Time on Wednesday, April 21, 2010.

Docket Numbers: RP10-596-000.

Applicants: Northwest Pipeline GP.

Description: Northwest Pipeline GP submits Second Revised Sheet 4 to FERC Gas Tariff, Fourth Revised Volume 1, to be effective 05/12/10.

Filed Date: 04/12/2010.

Accession Number: 20100413-0205.

Comment Date: 5 p.m. Eastern Time on Monday, April 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov. or call (866) 208-3676 (toll free). For TTY, call (202) 502-8659.

Kimberly D. Bose,
Secretary.

[FR Doc. 2010-9129 Filed 4-20-10; 8:45 am]

BILLING CODE 6717-01-P